DEPARTMENT OF HEALTH AND HUMAN SERVICES

Centers for Disease Control and Prevention

Initiatives To Educate State Legislatures About Priority Public Health Issues

Announcement Type: New.

Funding Opportunity Number: 04157.

Catalog of Federal Domestic Assistance Number: 93.283.

Key Dates:

Letter of Intent Deadline: June 17, 2004.

Application Deadline: July 12, 2004.

I. Funding Opportunity Description

Authority: This program is authorized under sections 301(a), and 317(k)(2) of the Public Health Service Act [42 U.S.C. 241(a) and 247b(k)(2)], as amended.

Purpose: The purposes of this program announcement are to identify and implement national educational initiatives to address the need for accurate, comprehensive, and timely public health information for state legislatures through informational forums and other communication channels to address current and emerging public health concerns of state legislatures including barriers to effective public health.

These activities shall not be intended to support or defeat particular state legislation.

Priority areas for these activities are prevention, early detection, and control of disease, injury, and disability, and the strengthening of state and local public health agencies.

This program addresses “Healthy People 2010” focus areas of birth defects, developmental disabilities and health for people with disabilities; chronic disease and related risk factors; environmental health; Human Immuno Deficiency Virus (HIV), sexually transmitted diseases (STD) and Tuberculosis (TB); infectious disease; injury and violence prevention; immunization; occupational safety and health; public health practice and infrastructure. In addition, this program addresses emergency preparedness and response; genomics; health issues facing older Americans, and health disparities.

Measurable outcomes of the program will be in alignment with one (or more) of the following performance goals for the Centers for Disease Control and Prevention:

A. Increase Legislators awareness and understanding of current and emerging public health activities and issues.

B. Assist in identifying state specific and national public health initiatives.

C. Increase understanding and knowledge of public health initiatives among state legislators.

D. Support understanding the public health missions, objectives, and activities of the Centers, Institutes, and Offices at the Centers for Disease Control and Prevention (CDC).

Activities: Recipient activities are divided into two categories: core and categorical. Core activities provide for cross-cutting activities or subject-specific activities. Categorical activities are subject area specific. Specific core and categorical activities should not be duplicative.

Recipient Core Activities: Each core activity should reflect the interests of a minimum of three CDC programs with special emphasis on the following: National Center for Birth Defects and Developmental Disabilities; National Center for Chronic Disease Prevention and Health Promotion; National Center for Environmental Health; National Center for HIV, STD and TB Prevention; National Immunization Program; Office of Terrorism, Preparedness and Emergency Response; and Public Health Practice Program Office. Priority focus areas for year one core activities should reflect the public health mission and objectives of CDC (http://www.cdc.gov).

a. Identify and address national and state public health activities and concerns that affect program decision-making and planning activities. Assess the status of legislative trends in public health on a quarterly basis. At a minimum conduct quarterly education updates for state legislatures on public health activities.

b. Develop and coordinate public health educational and information sharing activities with state and local health department contacts, including public health experts, to ensure that organization members from each state legislature are aware of public health issues, programs, and activities in their state or region.

c. Enhance relationships with and consult with key organizations to inform state legislators about prevention and public health activities and goals.

d. Respond to legislative requests about prevention and public health activities and issues and provide public health experts with a compendium of contact inquiries on a quarterly basis.

e. Examine existing research in order to develop and distribute publications tailored to the information needs of state legislators on public health disease control and prevention in order to educate state legislators about relevant policy and program activities and challenges to effective public health.

f. Provide forums for state health officials, state policy makers, and state legislative staff to share ideas and learn about public health activities and challenges to effective public health.

g. Develop or use existing capabilities to effectively communicate and share public information including electronic posting and dissemination of information and services for legislators, other stakeholders, and the general public about emerging and current public health activities and challenges to effective public health.

h. Ensure CDC core activities are complementary and do not duplicate categorical activities. To ensure maximum efficiency, activities related to public health and education funded by other organizations is also coordinated with the activities funded under this program announcement.

i. Conduct workshops on priority public health activities and challenges to effective public health at national health conferences and through other venues.

j. Plan, conduct, and evaluate (using both process and outcome measures), an annual meeting in the most cost efficient location to facilitate the exchange of public information between public health experts, legislators, and their staff.

k. Provide a forum and/or publication for newly-elected state legislators, so they can learn about priority public health activities and barriers to effective public health.

l. Develop and measure outcome indicators for all major activities funded under this program announcement.

Recipient Categorical Activities: Priority focus areas for year one categorical activities should reflect the public health mission and objectives for each of the following centers and programs: The National Center for Chronic Disease Prevention and Health Promotion (NCCDPHP); National Center for Environmental Health (NCEH), National Center for HIV, STD and TB prevention (NCHSTP); The National Center on Birth Defects and Developmental Disabilities (NCBDDD); National Immunization Program (NIP); and Adolescent and School Health (DASH). Specific activities for each funding source are indicated after the activity. Each categorical project contains multiple activities as outlined below, a description of each lettered activity follows the list.

Categorical project | Activities
DASH | b,c,d,h,i
NCCDPHP | a,b,c,d,e,f,g
NCBDDD | a,b,c,d,e,f,g
NCEH | a,b,c,e,f
NCHSTP | a,b,c,d,e,f,g,j
NIP | a,b,c,d,e,f,g

Activities (As referenced above):

a. Collaborate with key organizations to provide public health prevention and control information for state legislators. (NCCDPHP, NCBDDD, NCEH, NCHSTP, NIP)

b. Create, update, publicize, and maintain electronic services and other communication venues to inform legislators, other stakeholders, and the general public about emerging and current public health activities and barriers to effective public health. (all funding sources)

c. Examine existing research in order to develop and distribute publications tailored to the information needs of legislators on public health disease prevention and public health in order to educate legislators' about relevant public health activities and barriers to effective public health. (all funding sources)

d. Identify information sharing opportunities for state legislators and legislative staff, state government employees, and other key figures so they can discuss current and emerging public health related activities and concerns. (DASH, NCCDPHP, NCBDDD, NCHSTP, NIP)

e. Identify and address national and state public health activities and concerns that affect program decision-making and planning activities. At a minimum, conduct quarterly public health educational updates for state policymakers on public health activities and barriers to effective public health. (NCCDPHP, BDDDHHB, NCEH, HIV and STD, NIP)

f. Examine existing research to identify the critical barriers to effective public health facing state legislatures and remain apprised of key public health activities and concerns as they relate to states and state legislatures. (NCCDPHP, BDDDHHB, NCEH, HIV and STD, NIP)

g. Coordinate activities with state and local health department contacts, including public health experts, to ensure that organization members from each state legislature are aware of public health activities, programs, and activities in their state or region. (NCCDPHP, NCBDDD, NCHSTP, NIP)

The below activities apply to adolescent and school health funding ONLY:

h. Participate in a sufficient number of meetings of the joint work groups on social marketing of positive messages for HIV prevention and school health; teen pregnancy prevention; and adolescent and/or school health to effectively communicate accurate and up to date public health prevention information.

i. Ensure that financial information for the 50 state School Health funded Project's including the block grant funding and state legislative appropriations information is current and accurate.

The below activity applies to NCHSTP funding ONLY:

j. Develop, update, and disseminate, as needed, HIV educational information and materials for newly elected state legislators and staff that can be easily accessed via the organization's Web site and other communication venues.

In a cooperative agreement, CDC staff is substantially involved in the program activities, above and beyond routine grant monitoring.

CDC Activities for this program are as follows:

a. Provide up-to-date information that includes diffusion of best practices and current research and data in public health.

b. Provide programmatic consultation, guidance, and technical assistance related to program planning, implementation and evaluation; assessment of program objectives; and dissemination of successful strategies, experiences and evaluation reports regarding public health programs and policies.

c. Assist in the evaluation of program activities.

d. Collaborate in the planning and support of workshops, conferences, and other professional gatherings that serve a public health purpose, and as appropriate, provide speakers for meetings.

e. Provide analytical expertise and assist in preparation of material for publication that includes information on public health activities.

f. Coordinate with national, state, and local education, health, and social service agencies, as well as other relevant organizations, in planning and conducting national strategies designed to strengthen programs to prevent disease and promote health.

g. Provide technical assistance regarding the scope, development, and accomplishment of activities undertaken as part of the cooperative agreement.

h. Convene CDC steering committees to consult with grantee in all aspects of program implementation and evaluation, educational materials development and dissemination.

II. Award Information

Type of Award: Cooperative Agreement. CDC involvement in this program is listed in the Activities Section Above.

Fiscal Year Funds: 2004.

Approximate Total Funding: $1,176,427.

Core: $270,000.

Categorical: $906,427.

Project 1: National Center for Chronic Disease Prevention and Health Promotion: $525,000.

Project 2: Division of Adolescent and School Health: $150,000.

Project 3: National Center on HIV, STD and TB Prevention: $87,427.

Project 4: National Center for Environmental Health: $40,000.

Project 5: National Immunization Program: $134,000.

Project 6: National Center on Birth Defects and Developmental Disabilities: $30,000.

Approximate Number of Awards: 1.

Approximate Average Award: $1,176,427 (This amount is for the first 12 month period and includes both direct and indirect costs.)

Floor of Award Range: None.

Ceiling of Award Range: None.

Estimated Award Date: September 1, 2004.

Budget Period Length: 12 months.

Project Period Length: Three years.

Throughout the project period, CDC's commitment to continuation of awards will be conditioned on the availability of funds, evidence of satisfactory progress by the recipient (as documented in required reports), and the determination that continued funding is in the best interest of the Federal Government.

III. Eligibility Information

Eligible applicants are national; non-profit; non-partisan or bipartisan organizations that consist of requisite memberships representing legislatures from all 50 states. The applicant organizations provide information, education, publications, and networking forums to state legislators, committees and their staff.

Note: Pub. L. 104-65 states that an organization described in section 501(c)(4) of the Internal Revenue Code of 1986 that engages in lobbying activities is not eligible to receive Federal funds constituting an award, grant, cooperative agreement, contract, loan or any other form.

Limited competition is justified under this program announcement due to the limited number of organizations having expertise interacting with all 50 state legislatures on existing and emerging public health issues.

III.2. Cost Sharing or Matching

Matching funds are not required for this program.

III.3. Other

If your application is incomplete or non-responsive to the requirements listed in this section, it will not be entered into the review process. You will be notified that your application did not meet submission requirements.

Timely submission of a letter of intent (LOI) is required to be eligible for this program. See sections IV.2., IV.3., and IV.6. of this announcement for more information on LOI submission.

Applicants should have at least five years experience in educating and informing state legislators and their staff from all 50 state legislatures on public health issues and use a variety of information technologies and resources to communicate the information to the state legislatures. The applicant should document eligibility by providing a concise summary that clearly describes:

(a) The organization's status as a national, non-profit, non-partisan or bipartisan organization that consists of requisite legislature memberships representing legislatures from all 50 states;

(b) the organization's experience in educating, informing and communicating with state legislators from all 50 state legislatures on public health issues. Sample materials produced can be provided in the appendices.

Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Letter of Intent (LOI):

A letter of intent (LOI) is required from all potential applicants for the purpose of determining eligibility and planning the competitive review process. Failure to submit a LOI will preclude you from submitting an application. Your LOI must be written in the following format:

• Maximum number of pages: two.

• Font size: 12-point unreduced.

• Double-spaced.

• Paper size: 8.5 by 11 inches.

• Page Margin Size: one inch.

• Printed only on one side of page.

• Written in English, avoid jargon.

Your LOI must contain the following information:

• The program announcement title and number;

• The applicant's status as a national, non-profit, and bipartisan organization;

• The applicant's constituency is elected officials and their staff in the legislative branch from all 50 states; and

• The applicant's experience in providing education, research, and information to the elected officials and their staff from all 50 state legislatures on a broad array of public health issues.

Application: You must submit a project narrative with your application forms. The narrative must be submitted in the following format:

• Maximum number of pages: 125—If your narrative exceeds the page limit, only the first pages which are within the page limit will be reviewed. This includes forms and budget justification.

• Font size: 12 point unreduced.

• Double-spaced.

• Paper size: 8.5 by 11 inches.

• Page margin size: one inch.

• Printed only on one side of page, double-spaced.

• Held together only by rubber bands or metal clips, not bound in any other way.

Your narrative should address activities to be conducted over the entire project period, and must include the following items in the order listed:

1. Executive Summary

Describe prior public health experience working with state legislators and legislators' staff from all 50 states. Describe the level of capacity and ability to conduct national programs and activities related to promoting education, awareness, and information dissemination on public health initiatives for state legislatures. Document your capacity to accomplish the purpose of this program announcement by providing a concise summary that clearly describes:

(a) The organization's status as a national; non-profit; non-partisan or bipartisan organization that consists of requisite legislature memberships representing legislatures from all 50 states;

(b) The organization's experience and demonstrated outcomes in educating, informing, and communicating with state legislators from all 50 state legislatures on public health issues. Sample materials produced can be provided in the appendices.

2. Background and Need

Describe the need for the proposed activities and the context in which the work will be conducted. Provide descriptions of the constituent population and how your organization will play a significant role in public health, either by direct or indirect impact.

3. Method

For each of the proposed project areas, submit a plan that describes the methodologies for conducting awardee activities outlined in the Activities sections. Identify strategies and activities for increasing the applicant's involvement in promoting and supporting public health programs over the next three years.

Explain how planned activities relate to the purpose of this program announcement. The plan should identify and establish a timeline for the completion of each component or major activity.

4. Goals and Objectives

For each of the proposed project areas, list goals specifically related to program requirements and indicate expected program outcomes at the end of the three-year project period. Provide objectives that are specific, measurable, feasible, and time phased to be accomplished during the 12-month budget period. Objectives should relate directly to the project goals and recipient activities.

Describe goals and objectives in narrative form and provide a timetable, with specific activities and expected outcomes that are related to each objective during the 12-month budget period. Indicate when each activity will occur, as well as when preparations for activities will occur. Also indicate who will be responsible for each activity and identify staff assigned to each activity.

5. Project Management and Staffing Plan

For each of the proposed project areas:

a. Describe the proposed staffing for the project and submit job descriptions illustrating the level of organizational responsibility for professional staff that will be assigned to the project.

b. In the application appendices, include a curriculum vitae for each professional staff member named in the proposal.

c. Describe the organization's structure and function; how that structure will support the accomplishment of the proposed public health activities at the state level; and the organization's methods of current communication with all 50 state legislatures.

6. Evaluation Plan

For each of the project areas, describe how activities and their impact will be evaluated. Describe how progress toward meeting project objectives will be monitored.

The evaluation plan should address measures considered critical to determine the success of the plan outlined by the applicant, and results should be used for improvement of the intended plan.

7. Budget and Accompanying Justification

For each of the project areas, provide a separate detailed line-item budget and narrative justification describing operating expenses consistent with the proposed objectives and planned activities.

Provide a precise description for each budget item and itemize calculations when appropriate. Provide a summary budget for the total requested. The budget and accompanying justification will not be counted in the stated page limit.

Additional information may be included in the application appendices. The appendices will not be counted toward the narrative page limit. This additional information includes:

• Curriculum Vitae.

• Job Descriptions.

• Organizational Charts.

• Any other supporting documentation.

You are required to have a Dun and Bradstreet Data Universal Numbering System (DUNS) number to apply for a grant or cooperative agreement for the Federal government. The DUNS number is a nine-digit identification number, which uniquely identifies business entities. Obtaining a DUNS number is easy and there is no charge. To obtain a DUNS number, access http://www.dunanbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Submission Date: June 17, 2004.

CDC requires that you send a LOI if you intend to apply for this program. The LOI will be used to gauge the level of interest in this program, to determine applicant eligibility, and to allow CDC to plan the application review.

Application Deadline Date: July 12, 2004.

Explanation of Deadlines: LOIs and Applications must be received in the CDC Procurement and Grants Office by 4 p.m. eastern time on the deadline date. If you send your LOI or application by the United States Postal Service or commercial delivery service, you must ensure that the carrier will be able to guarantee delivery of the LOI or application by the closing date and time. If CDC receives your LOI or application after closing due to: (1) Carrier error, when the carrier accepted the package with a guarantee for delivery by the closing date and time, or (2) significant weather delays or natural disasters, you will be given the opportunity to submit documentation of the carrier's guarantee.

This announcement is the definitive guide on LOI and application format, content, and deadlines. It supersedes information provided in the application instructions. If your LOI or application does not meet the deadline above, it will not be eligible for review, and will be discarded. You will be notified that you did not meet the submission requirements.

CDC will not notify you upon receipt of your LOI or application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to this program.

IV.5. Funding Restrictions

Restrictions, which must be taken into account while writing your budget, are as follows:

• Funds may be spent for reasonable program purposes, including personnel, travel, supplies, and services.

• Equipment may be purchased, with appropriate justification, including cost comparison of purchase with lease. Although contracts with other organizations are allowable, the recipient of this grant must perform a substantial portion of activities for which funds are requested.

• Cooperative agreement funds may not supplant existing funds from any other public or private source.

• Funds may not be expended for construction, renovation of existing facilities, or relocation of headquarters or affiliates.

• Funds may not be used for clinical services.

• If you are requesting indirect costs in your budget, you must include a copy of your indirect cost rate agreement. If your indirect cost rate is a provisional rate, the agreement must be less than 12 months of age.

• Pre-award costs will not be reimbursed.

Guidance for completing your budget can be found on the CDC Web site, at the following Internet address: http://www.cdc.gov/od/pgo/funding/budgetguide.htm.

IV.6. Other Submission Requirements

LOI Submission Address: Submit your LOI by express mail or delivery service to: Technical Information Management—PA04157, CDC Procurement and Grants Office, 2920 Brandywine Road, Atlanta, GA 30341-4146.

Application Submission Address: Submit the original and two hard copies of your application by mail or express delivery service to: Technical Information Management—PA04157, CDC Procurement and Grants Office, 2920 Brandywine Road, Atlanta, GA 30341-4146.

LOIs and applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following evaluation criteria (100 points total):

1. Goals and Objectives (30 Points)

For each of the proposed project areas, does the applicant's plan for achieving the proposed activities appear realistic, feasible and relate to the programmatic requirements and purposes of this program announcement? Are short-term (one year) and long-term (three year) objectives specific, time-phased, measurable, realistic and related to identified needs?

2. Project Management and Staffing (20 Points)

For each of the proposed project areas, does the proposed staffing, organizational structure, job descriptions and curricula vitae for both proposed and current staff, indicate past experience in carrying out similar programs, and the ability to carry out the purposes of the current program?

3. Method (20 Points)

For each of the proposed project areas, does the applicant describe the methodologies for carrying out the recipient activities as outlined in the activities section of this announcement with a corresponding timeline for the completion of each major activity?

4. Evaluation Plan (20 Points)

For each of the proposed project areas, does the proposed evaluation plan address progress toward meeting goals and objectives, assess impact, and appear to be reasonable and feasible?

5. Background and Need (10 Points)

Does the applicant describe the need for the proposed activities and the context in which the work will be conducted? Does the applicant describe how their organization will play a significant role in public health among their target population?

6. Budget and Justification (Not Scored)

For each of the proposed project areas, is the budget reasonable and consistent with the purpose and activities of the program? Does the applicant provide a summary budget for all activities?

V.2. Review and Selection Process

Applications will be reviewed for completeness by the Procurement and Grants Office (PGO) staff and for responsiveness by The National Center for Chronic Disease Prevention and Control. Incomplete applications and applications that are non-responsive to the eligibility criteria will not advance through the review process.

Applicants will be notified that their application did not meet submission requirements.

Applications submitted for this Part will be reviewed by an independent objective review panel appointed by CDC that will evaluate each application against the “V.1. Criteria” section above.

No funding preference factors will affect the award.

V.3. Anticipated Announcement Award Date

September 1, 2004.

VI. Award Administration Information

VI.1. Award Notices

Successful applicants will receive a Notice of Grant Award (NGA) from the CDC Procurement and Grants Office. The NGA shall be the only binding, authorizing document between the recipient and CDC. The NGA will be signed by and authorized Grants Management Officer, and mailed to the recipient fiscal officer identified in the application.

Unsuccessful applicants will receive notification of the results of the application review by mail.

VI.2. Administrative and National Policy Requirements:

45 CFR Part 74 and Part 92

For more information on the Code of Federal Regulations, see the National Archives and Records Administration at the following Internet address: http://www.access.gpo.gov/nara/cfr/cfr-table-search.html.

The following additional requirements apply to this project:

AR-8 Public Health System Reporting Requirements

AR-9 Paperwork Reduction Act Requirements

AR-10 Smoke-Free Workplace Requirements

AR-11 Healthy People 2010

AR-12 Lobbying Restrictions

AR-14 Accounting System Requirements

AR-15 Proof of Non-Profit Status

Additional information on these requirements can be found on the CDC Web site at the following Internet address: http://www.cdc.gov/od/pgo/funding/ARs.htm.

VI.3. Reporting Requirements

You must provide CDC with the original, plus two hard copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

f. Measures of Effectiveness.

2. Financial status report and annual progress report, no more than 90 days after the end of the budget period.

3. Final financial and performance reports, no more than 90 days after the end of the project period.

These reports must be sent to the Grants Management Specialist listed in the “Agency Contacts” section of this announcement.

VII. Agency Contacts

For general questions about the announcement, contact: Technical Information Management, CDC Procurement and Grants Office, 2920 Brandywine Road, Atlanta, GA 30341-4146, Telephone: 770-488-2700.

For program technical assistance, contact: Jennifer Tucker, 4770 Buford Highway, MS K-40, Atlanta, GA 30341, Telephone: 770-488-6454, E-mail: jrt5@cdc.gov.

For business management and budget assistance, contact: LaKasa Wyatt, Contract Specialist, CDC Procurement and Grants Office, 2920 Brandywine Road, Atlanta, GA 30341-4146, Telephone: 770-488-2728, E-mail: lgw5@cdc.gov.

Dated: May 21, 2004.
William P. Nichols,
Acting Director, Procurement and Grants Office, Centers for Disease Control and Prevention.

[FR Doc. 04-12002 Filed 5-26-04; 8:45 am]

BILLING CODE 4163-18-P